DEPARTMENT OF THE INTERIOR

Fish and Wildlife Service

50 CFR Part 17

Endangered and Threatened Wildlife and Plants; 90-Day Finding on a Petition To Remove the Utah (Desert) Valvata Snail (Valvata utahensis) from the List of Endangered and Threatened Wildlife

AGENCY: Fish and Wildlife Service, Interior.

ACTION: Notice of 90-day petition finding and initiation of status review.

SUMMARY: We, the U.S. Fish and Wildlife Service (Service), announce a 90-day finding on a petition to remove the Utah (desert) valvata snail (Valvata utahensis) from the Federal List of Endangered and Threatened Wildlife (List) pursuant to the Endangered Species Act (Act). We find that the petition presents substantial scientific information that delisting the Utah valvata snail may be warranted, and are initiating a status review. We plan to conduct this review concurrent with the ongoing status review initiated on April 11, 2006 (71 FR 18345), which we are required to make every 5 years under section 4(c)(2)(A) of the Act. We are requesting submission of any new information on the Utah valvata snail since its original listing as an endangered species in 1992. At the conclusion of these simultaneous reviews, we will make the requisite recommendation under section 4(c)(2)(B) of the Act and will issue a 12-month finding on the petition, as provided in section 4(b)(3)(B) of the Act.

DATES: The finding announced in this document was made on June 6, 2007. To be considered in the 12-month finding on this petition or the 5-year review, comments and information must be submitted to us by September 4, 2007.

ADDRESSES: You may submit new information, materials, comments, or questions concerning this species by any one of the following methods:

1. You may submit comments and information to the Field Supervisor, Attention: Utah Valvata Snail Comments, Snake River Fish and Wildlife Office, 1387 S. Vinnell Way, Suite 368, Boise, ID 83709.

2. You may hand-deliver written comments and information to the above address.

3. You may fax your comments to 208-378-5262.

4. You may go to the Federal rulemaking Internet portal: http://www.regulations.gov. Follow the instructions for submitting comments.

5. You may e-mail your comments to fw1srbocomment@fws.gov.

Please include “Utah Valvata Snail Comments” in the subject line for faxes and e-mails. Please submit electronic comments in unformatted text, and avoid the use of special characters and encryption.

FOR FURTHER INFORMATION CONTACT: Susan Burch, Fish and Wildlife Biologist, Snake River Fish and Wildlife Office (see ADDRESSES); telephone: 208-378-5243; or e-mail: susan_burch@fws.gov.

SUPPLEMENTARY INFORMATION:

Public Information Solicited

When we make a finding that substantial information exists to indicate that listing or delisting a species may be warranted, we are required to promptly commence a review of the status of the species. To ensure that the status review is complete and based on the best available scientific and commercial information, we are soliciting any additional information, comments, or suggestions on the Utah valvata snail from the public, State and Federal agencies, Tribes, the scientific community, industry or environmental entities, or any other interested parties. Information sought includes any data regarding historical and current distribution, biology and ecology, ongoing conservation measures for the species or its habitat, and threats to the species or its habitat. We also request information regarding the adequacy of existing regulatory mechanisms.

Please note that comments merely stating support or opposition to the actions under consideration without providing supporting information, although noted, will not be considered in making a determination, as section 4(b)(1)(A) of the Act directs that determinations as to whether any species is a threatened or endangered species shall be made “solely on the basis of the best scientific and commercial data available.” At the conclusion of the status review, we will issue the 12-month finding on the petition, as provided in section 4(b)(3)(B) of the Act (16 U.S.C. 1531 et seq.).

If you wish to comment or provide information, you may submit your comments and materials concerning this finding to the Field Supervisor (see ADDRESSES) by the date listed in the DATES section.

Before including your address, phone number, e-mail address, or other personal identifying information in your comment, you should be aware that your entire comment—including your personal identifying information—may be made publicly available at any time. While you can ask us in your comment to withhold your personal identifying information from public review, we cannot guarantee that we will be able to do so. If you wish us to withhold your name and/or address, you must state this prominently at the beginning of your comment. However, we will not consider anonymous comments. Comments and materials received will be available for public inspection, by appointment, during normal business hours at the address listed in the ADDRESSES section.

Background

Section 4(b)(3)(A) of the Endangered Species Act (Act) of 1973, as amended (16 U.S.C. 1531 et seq.), requires that we make a finding on whether a petition to list, delist, or reclassify a species presents substantial scientific or commercial information indicating that the petitioned action may be warranted. The finding is based on information contained in the petition and information otherwise available in our files at the time we make the finding. To the maximum extent practicable, we are to make the finding within 90 days of receiving the petition, and publish our notice of the finding in the Federal Register.

This finding summarizes the information included in the petition and information available to us at the time of the petition review. Under section 4(b)(3)(A) of the Act and our regulations in 50 CFR 424.14(b), our review of a 90-day finding is limited to a determination of whether the information in the petition meets the “substantial scientific or commercial information” threshold. Our standard for substantial information with regard to a 90-day petition finding is “that amount of information that would lead a reasonable person to believe that the measure proposed in the petition may be warranted” (50 CFR 424.14(b)). If we find that substantial information was presented, we are required to promptly commence a review of the status of the species and publish the results of that status review in a 12-month finding.

Species Information

The Utah valvata snail is a habitat generalist, occupying coldwater springs, spring creeks, the mainstem Snake River, and reservoirs in both fine sediments and more coarse substrates at a variety of water depths (Hinson 2006, pp. 30-33). Utah valvata snails have been documented in discontinuous colonies along a 260-mile stretch of the Snake River in southern and eastern Idaho from Upper Salmon Falls Dam in southern Idaho (River Mile (RM) 581.3) upstream to the State Highway 33 Bridge on the Henry's Fork in eastern Idaho (Hinson 2006, p. 15). Colonies are also known to exist in Snake River tributaries (e.g., the Big Wood River and Box Canyon Creek) and in coldwater springs adjacent to the Snake River (e.g., Thousand Springs Preserve) (reviewed by Hinson 2006, p. 15).

The Utah valvata snail is univoltine, meaning it has a 1-year life cycle. Emergence of new cohorts of the Utah valvata snails occurs throughout the year, depending on habitat (Frest and Johannes 1992, p. 15; U.S. Bureau of Reclamation (USBR) 2002, pp. 6-7; USBR 2003, pp. 9-12; Lysne 2003, p. 93), and is followed by rapid growth through the summer and fall. Over winter, snails become dormant (Cleland 1954, p. 170; Lysne 2003, p. 83, USBR 2003, pp. 9-12). Following the cessation of dormancy in spring, growth continues through summer until sexual maturity is reached at 4 to 5 millimeters (mm) of length (Hershey 1990, p. 29; Lysne and Koetsier 2006, p. 287). Reproduction and spawning occur asynchronously between March and October, depending on habitat, with the majority of young spawned between August and October (Cleland 1954, p. 172; USBR 2003, p. 9). Emergence of a new cohort follows approximately two weeks after oviposition (Cleland 1954, p. 170; Heard 1963, p. 66; Dillon 2000, p. 103) and senescent snails (i.e., those approximately 1 year old) die shortly after reproduction (Cleland 1954, pp. 170-171; Lysne and Koetsier 2006, p. 287).

We listed the Utah valvata snail as endangered on December 14, 1992 (57 FR 59244). At that time, we determined that the Utah valvata snail was threatened by construction of new hydropower dams, the operation of existing hydropower dams, degraded water quality, water diversions, the introduced New Zealand mudsnail (Potamopyrgus antipodarum), and the lack of existing regulatory protections (57 FR 59244). The Utah valvata snail was described as existing “at a few springs and mainstem Snake River sites in the Hagerman Valley and at a few sites below American Falls Dam downstream to Burley [Idaho].” We published the Snake River Aquatic Species Recovery Plan, which included the Utah valvata snail, in 1995 (Service 1995). Critical habitat has not been designated for this species.

Review of Petition

On December 26, 2006, we received a petition from the Governor of Idaho and attorneys for several irrigation districts and canal companies requesting that the Utah valvata snail be removed from the List. The delisting petition cites a recent status review conducted by Steward & Associates (Hinson 2006), a review of Utah valvata snail sampling methodology (D.R. Hinson and C. Steward (Steward & Associates), in litt. 2007), a memorandum addressing perceived threats to Utah valvata snail from 1996 to 2006 (Barker Rosholt & Simpson LLP, in litt. 2006), the Mid-Snake Springs Habitat Protection Plan (Wilkison 2005), species data from the Thousand Springs Preserve (Idaho Power 2006, unpublished data), water quality data from Idaho Department of Environmental Quality (IDEQ 2007), and U.S. Bureau of Reclamation data for the Utah valvata snail (USBR 2002, 2003, 2005). The petition clearly identified itself as a petition and included the requisite identification information for the petitioners, as required in 50 CFR 424.14(a). The petition cited information on the natural history of the Utah valvata snail, its population status, and advances in knowledge about the species' ecology and threats since listing. The petition states that many of the threats identified in the 1992 listing rule no longer exist or have been attenuated by subsequent actions. It also states that the Utah valvata snail is more abundant, is more continuously distributed, and exists in more diverse habitats than previously recorded.

Threats Analysis

The factors for listing, delisting, or reclassifying a species are described at 50 CFR 424.11. We may delist a species only if the best scientific and commercial data available substantiate that it is neither endangered nor threatened. Delisting may be warranted as a result of: (1) Extinction, (2) recovery, and/or (3) a determination that the original data used for classification of the species as endangered or threatened were in error.

Section 4(a)(1) of the Act requires that we determine whether a species is endangered or threatened based on one or more of the five following factors: (A) Present or threatened destruction, modification, or curtailment of habitat or range; (B) overutilization for commercial, recreational, scientific, or educational purposes; (C) disease or predation; (D) inadequacy of existing regulatory mechanisms; or (E) other natural or manmade factors affecting its continued existence. In making this 90-day finding, we evaluated whether information presented in the December 2006 petition, when considered along with information in our files, constitutes substantial scientific or commercial information such that delisting may be warranted. Our evaluation of this information is presented below.

A. Present or Threatened Destruction, Modification, or Curtailment of the Species' Habitat or Range

Habitat Use

The petitioners claim that Utah valvata snails are able to live in a variety of habitats previously thought to be unsuitable for the species, including reservoirs. They provided a status report by Hinson (2006) as the primary source of information to support this claim. Hinson (2006, p. 21) used available data from the Bureau of Reclamation, Idaho Power Company, Hinson & Falter, the Idaho Department of Fish and Game, the Service, and the Idaho Transportation Department to analyze the current distribution of Utah valvata snails related to habitat features (i.e., depth and dominant substrate size). Based on this analysis, Hinson (2006, pp. 3, 23-32) reported Utah valvata snails using a number of substrates (fines, cobbles, gravel), habitat types (river, springs, reservoirs), depths (from less than 1.6 feet (ft) (0.5 meter (m)) to greater than 32.8 ft (10 m)), and water temperatures (from 40.1 degrees Fahrenheit (°F) (4.5 degrees Celsius (°C)) to 66.6 °F (19.2 °C)). The snails have also been found in areas of low and high concentrations of aquatic plants, and, in one case, were found in very fine, black, organically enriched sediments with dense submerged aquatic plant communities and attached filamentous (long thread-like) algae (Hinson 2006, pp. 30-33).

At the time of listing, we stated: “In the Snake River, V. utahensis lives in deep pools adjacent to rapids or in perennial flowing waters associated with large spring complexes. The species avoids areas with heavy currents or rapids. The snail prefers well-oxygenated areas of non-reducing calcareous mud or mud-sand substrate among beds of submergent aquatic vegetation. The species is absent from pure gravel-boulder bottoms” (57 FR 59244, p. 59245).

We accept the petitioners' characterization of Utah valvata snail habitat use and find that they have presented substantial information suggesting that current information about Utah valvata snail habitat use may be different than indicated by the best available information at the time of listing in 1992.

Range

Based primarily on a status report by Hinson (2006), the petitioners claim that the species is more widely distributed than recorded at the time of listing in 1992. Hinson (2006, p. 15) reported that Utah valvata snails occupy discontinuous colonies in a 260-mile (418-kilometer) range in the Snake River Basin from Upper Salmon Falls Dam (RM 581.3) upstream to the State Highway 33 bridge on the Henry's Fork. Colonies are also known to exist in habitats adjacent to mainstem Snake River habitats, including the Big Wood River (joins the Snake River at RM 571), Box Canyon Creek (joins the Snake River at RM 588), and Thousand Springs Preserve (joins the Snake River at RM 585) (reviewed by Hinson 2006, p. 15). Based on a collection of empty shells of recent origin, colonies may also exist in Magic Reservoir, upstream of the Big Wood River colony (J. Keebaugh, Orma J. Smith Museum of Natural History, pers. comm. 2006, cited in Hinson 2006, p. 15). At present, the most abundant colonies of Utah valvata snails known to exist in the Snake River Basin occur in river and reservoir habitats from Minidoka Dam (RM 675) upstream to the middle portion of American Falls Reservoir (approximately RM 725) (reviewed by Hinson 2006, p. 15).

At the time of listing, we stated: “The Utah valvata snail historically occurred from river mile 492 (near Grandview) to river mile 585 just above Thousand Springs with a disjunct population in the American Falls Dam tailwater near Eagle Rock damsite at river mile 709. The taxa was known historically from northern Utah, although recent mollusk surveys throughout the State revealed no live sites and the species is believed extirpated there (Clarke 1991). At present, this species occurs in a few springs and mainstem Snake River sites in the Hagerman Valley and a few sites below American Falls Dam downstream to Burley (Beak 1987; Taylor 1987)” (57 FR 59245).

We accept the petitioners' characterization of the Utah valvata snail's current range and find that they have presented substantial information indicating that the current range of the Utah valvata snail may be significantly larger than the range we described in our 1992 listing rule.

Construction of New Hydropower Dams

The petition states that threats to Utah valvata snail habitat from future hydro-power development are not as they were perceived when the species was listed in 1992. The petitioners provided a document from the State of Idaho (Idaho 2006), indicating that all recent permits for the construction of new dams along the Mid-Snake River have either lapsed or have been denied by the Federal Energy Regulatory Commission (FERC). They also provided the following documents as evidence that specific permits are no longer moving forward: (1) A 2002 notice of surrender of preliminary permit for the River Side Project (FERC 2002a), (2) 2002 orders denying application for preliminary permits for the Eagle Rock (FERC 2002b) and Star Falls Hydroelectric Projects (FERC 2002c), and (3) a 2003 notice of surrender of preliminary permit for the Auger Falls Project (FERC 2003).

At the time of listing, there were six active proposals for new hydroelectric projects in the middle-Snake River. In our listing rule, we stated: “Six proposed hydroelectric projects, including two high dam facilities, would alter free flowing river reaches within the existing range of [the Utah valvata snail]. Dam construction threatens the [Utah valvata snail] through direct habitat modification and moderates the Snake River's ability to assimilate point and non-point pollution. Further hydroelectric development along the Snake River would inundate existing mollusk habitats through impoundment, reduce critical shallow, littoral shoreline habitats in tailwater areas due to operating water fluctuations, elevate water temperatures, reduce dissolved oxygen levels in impounded sediments, and further fragment remaining mainstem populations or colonies of these snails” (57 FR 59251).

We have no information in our files suggesting that future hydropower development in the middle-Snake River is likely to occur and we therefore accept the petitioners' claim that the threats from hydropower development may have dissipated since the time of listing.

Water Quality

A threats analysis provided by the petitioners states that threats to Utah valvata snail habitat from water pollution are not as they were perceived when the species was listed in 1992 (Barker et al. 2006, in litt., p. 10). The petitioners presented data on improvements to Snake River water quality and on changes in our understanding of Utah valvata snail's tolerance of nutrient-rich (e.g., nitrogen and phosphorus) water in the Snake River resulting from return flows from irrigated agriculture, runoff from feedlots and dairies, hatchery effluent, municipal sewage effluent, and other point and non-point discharges. The Utah valvata snail status report provided by the petitioners (Hinson 2006, p. 19) noted that the U.S. Bureau of Reclamation (2003) conducted studies measuring the organic content in the sediment (ash-free dry weight) where Utah valvata snails are found in an attempt to create an index that relates snail densities with available forage. The highest Utah valvata snail densities sampled coincided with lower Lake Walcott reservoir habitat that had the greatest percentage of organic content in the sediments, suggesting that Utah valvata snails can reach their greatest densities in areas that are subject to high concentrations of nitrogen and phosphorus (Hinson 2006, p. 19).

At the time of listing, we stated: “The quality of water in [snail] habitats has a direct effect on the species survival. The [Utah valvata snail] require[s] cold, well-oxygenated unpolluted water for survival. Any factor that leads to a deterioration in water quality would likely extirpate [the Utah valvata snail]” (57 FR 59244, p. 59252).

Therefore, we find that the petitioners have presented substantial information indicating that Utah valvata snails may be more tolerant of nutrient-rich waters than indicated by the best available information at the time of listing in 1992.

B. Overutilization for Commercial, Recreational, Scientific, or Educational Purposes

The petitioners did not provide information regarding the overutilization of Utah valvata snails for commercial, recreational, scientific, or educational purposes. We did not consider this factor applicable to our listing decision in 1992, and we do not have information in our files suggesting that overutilization is a threat to the species.

C. Disease or Predation

The petitioners did not provide information regarding the effects of disease or predation on Utah valvata snails. At the time of listing we stated that changes in the fish fauna of the middle Snake River had been suggested as a potential threat to the Utah valvata snail (57 FR 59244, p. 59253). At that time there was no data to support this suggestion, and we did not consider this factor to be significant in our listing decision. Currently, we have no information in our files suggesting that disease or predation are significant threats to the Utah valvata snail.

D. The Inadequacy of Existing Regulatory Mechanisms

The petitioners provided numerous documents regarding surface water quality programs, water rights, aquifer recharge, and groundwater management in the Snake River and Snake River Plain aquifer (e.g., Idaho 2004; Idaho 2005; IDWR 2006). These documents indicate that the State of Idaho has regulatory mechanisms to limit or exclude the development of new surface water or groundwater rights within the range of the Utah valvata snail. These documents also indicate that the State has regulatory mechanisms to prioritize existing water rights based on seniority.

At the time of listing, we found inadequate regulatory mechanisms to be a threat because (1) regulations were inadequate to curb further water withdrawal from groundwater spring outflows or tributary spring streams, (2) it was unlikely that pollution control regulations would reverse the trend in nutrient loading in the near future, (3) there was a lack of protections for invertebrate species in Idaho, and (4) regulations did not require FERC or the U.S. Army Corp of Engineers to address Service concerns regarding licensing hydroelectric projects or permitting projects under the Clean Water Act for unlisted snails.

Information provided by the petitioner, along with information in our files, suggests that the threat to Utah valvata snails from inadequate regulatory mechanisms may be less than indicated by the best available information at the time of listing. There are now regulatory mechanisms to limit future surface water and groundwater development, and some pollution control regulations have been implemented.

E. Other Natural or Manmade Factors Affecting Its Continued Existence

The status report provided by the petitioner (Hinson 2006) states that threats to the Utah valvata snail from the New Zealand mudsnail (Potamopyrgus antipodarum) are not as they were perceived when the species was listed in 1992. According to Hinson (2006, pp. 41-42), the fact that Utah valvata snails and New Zealand mudsnails frequently occur in the same samples indicates that these two species are able to co-exist, which either indicates that resources are not limiting or that the snails actually have slightly different algae preferences.

However, Hinson (2006, p. 41) also notes that the overlap in habitat utilization between the Utah valvata snail and the New Zealand mudsnail could lead to direct competition for resources between these two species. Hinson (2006, p. 41) states: “P. antipodarum densities have been steadily increasing in reservoir habitats of the Snake River (e.g., Lake Walcott) (USBOR 2003; USBOR 2004a). This overlap in habitat utilization between V. utahensis and P. antipodarum could lead to direct competition for resources between these two species. Known densities of the exotic P. antipodarum in the Middle Snake River can exceed 800,000 individuals per square meter (Minshall 1993). This factor alone increases the likelihood that V. utahensis can be outcompeted by P. antipodarum and physically displaced in areas where the two species overlap. P. antipodarum populations in the Snake River Basin have been shown to reproduce rapidly and quickly deplete growths of periphytic algae (USFWS 2005), which is known to be an important food source for V. utahensis and many of the other listed Snake River snails.”

At the time of listing, we stated that New Zealand mudsnails were not abundant in coldwater springflows with colonies of the Utah valvata snail, but that they did compete with the Utah valvata snail in the mainstem Snake River (57 FR 59244, p. 59254). We have no direct evidence that New Zealand mudsnails have displaced colonies of Utah valvata snails, but New Zealand mudsnails have been documented in dense mats (at densities of nearly 400 individuals per square inch) in free-flowing habitats within the range of the Utah valvata snail (57 FR 59244, p. 59254). Furthermore, New Zealand mudsnails have become established in every spring-fed creek or tributary to the Snake River in the Hagerman Reach that has been surveyed.

Based on information provided by the petitioner, along with information in our files, New Zealand mudsnails likely compete with Utah valvata snails for food or space. Although the information provided by the petitioners indicates that the Utah valvata snail and New Zealand mudsnail co-occur in various locations, the petitioners acknowledge that, given the densities that New Zealand mudsnails can achieve, there is an increased likelihood that “V. utahensis can be outcompeted by P. antipodarum and physically displaced in areas where the two species overlap.” Therefore, we find that Hinson's (2006) analysis is largely consistent with our analysis at the time of listing in 1992, and that New Zealand mudsnails may still be a substantive threat to the Utah valvata snail.

Finding

We have reviewed the delisting petition and the supporting documents, as well as other information in our files. We find that the delisting petition and other information in our files presents substantial information indicating that delisting the Utah valvata snail may be warranted, and we are initiating a status review. Petitioners have provided a detailed status report that updates the state of knowledge regarding Utah valvata snail habitat use, distribution, and threats. The status report provides substantial information indicating that the Utah valvata snail may be more widely distributed than previously recorded and that it can occur in a wide variety of habitat types, substrates, depths, and water temperatures. Information provided by the petitioners also indicates that threats from hydropower development are not what we perceived when we listed the species in 1992, and that additional regulatory mechanisms now exist that could limit water development and improve water quality in Utah valvata snail habitat. New Zealand mudsnails appear to be a persistent threat to the Utah valvata snail, but the significance of this threat must be more fully evaluated in the context of the remaining threats and the species' overall status.

5-Year Review

Section 4(c)(2)(A) of the Act requires that we conduct a status review of listed species at least once every 5 years. We are then, under section 4(c)(2)(B), to determine whether any species should be removed from the List (delisted), or reclassified from endangered to threatened, or threatened to endangered. We initiated a 5-year review for the Utah valvata snail on April 11, 2006 (71 FR 18345). We are currently in the process of completing our 5-year review and will incorporate that review into our 12-month finding.

References

A complete list of all references cited in this finding is available, upon request, from the Snake River Fish and Wildlife Office (see ADDRESSES section).

Author

The primary author of this document is Jesse D'Elia, Pacific Regional Office, Portland, Oregon.

Authority

The authority for this action is section 4 of the Endangered Species Act of 1973 (16 U.S.C. 1531 et seq.).

Dated: May 25, 2007.
Randall B. Luthi,
Acting Director, Fish and Wildlife Service.

[FR Doc. E7-10885 Filed 6-5-07; 8:45 am]

BILLING CODE 4310-55-P